SMALL BUSINESS ADMINISTRATION

[Disaster Declaration #11311 and #11312]

Missouri Disaster Number MO-00030

AGENCY: U.S. Small Business Administration.

ACTION: Amendment 7.

SUMMARY: This is an amendment of the Presidential declaration of a major disaster for the State of Missouri (FEMA-1773-DR), dated 06/28/2008.

Incident: Severe Storms and Flooding.

Incident Period: 06/01/2008 through 08/13/2008.

Effective Date: 09/08/2008.

Physical Loan Application Deadline Date: 09/30/2008.

EIDL Loan Application Deadline Date: 03/30/2009.

ADDRESSES: Submit completed loan applications to:

U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Missouri, dated 06/28/2008 is hereby amended to include the following areas as adversely affected by the disaster:

Primary Counties: (Physical Damage and Economic Injury Loans): Adair, Callaway, Chariton, Harrison, Macon, Monroe, Putnam.

Contiguous Counties: (Economic Injury Loans Only):

Missouri: Boone, Cole, Howard, Mercer, Osage, Randolph, Saline, Schuyler.

Iowa: Appanoose, Decatur, Ringgold, Wayne.

All other information in the original declaration remains unchanged.

(Catalog of Federal Domestic Assistance Numbers 59002 and 59008)

Herbert L. Mitchell,
Associate Administrator for Disaster Assistance.

[FR Doc. E8-21410 Filed 9-12-08; 8:45 am]

BILLING CODE 8025-01-P